DEPARTMENT OF DEFENSE

Department of the Army, Corps of Engineers

Notice of Intent To Prepare a Draft Environmental Impact Statement (EIS) for the South Carolina Highway 22 Extension Project in Horry County, South Carolina

AGENCY: U.S. Army Corps of Engineers, Department of the Army, Department of Defense.

ACTION: Notice of intent.

SUMMARY: The U.S. Army Corps of Engineers, Charleston District intends to prepare a draft Environmental Impact Statement (DEIS) to assess the potential social, economic, and environmental effects of the proposed extension of South Carolina Highway 22 (SAC-2024-00107) by the South Carolina Department of Transportation (SCDOT). In accordance with the National Environmental Policy Act (NEPA), the Corps is the lead Federal agency responsible for the preparation of the DEIS. Information included in the DEIS will serve as the basis for the Corps' evaluation of the proposed highway extension project pursuant to section 10 of the Rivers and Harbors Act (RHA) and section 404 of the Clean Water Act (CWA). The DEIS will assess potential effects of the proposed highway extension project and a range of reasonable alternatives on impacts to navigable waters and other waters of the United States. The DEIS will also provide information for Federal, State, and local agencies having other jurisdictional responsibility.

DATES: All comments and suggestions must be submitted by May 27, 2025. Individuals and organizations that are interested in the proposed highway extension project or whose interests may be affected by the proposed work are encouraged to submit oral and/or written comments to the Charleston District.

ADDRESSES: Charleston District, U.S. Army Corps of Engineers, Attn: Ann Eaddy, 69A Hagood Avenue, Charleston, South Carolina 29403.

FOR FURTHER INFORMATION CONTACT: For further information and/or questions about the proposed highway extension project and DEIS, please contact Ms. Ann Eaddy, Project Manager, by email: Ann.W.Eaddy@usace.army.mil, by telephone: 843-365-4239, or by mail: Ms. Ann Eaddy, Project Manager, Regulatory Division, 69A Hagood Avenue, Charleston, South Carolina 29403.

SUPPLEMENTARY INFORMATION: The Corps is evaluating a proposal from the South Carolina Department of Transportation (SCDOT) for the proposed extension of South Carolina Highway 22 (SAC-2024-00107) in accordance with section 10 of the Rivers and Harbors Act (33 U.S.C. 403), section 404 of the Clean Water Act (33 U.S.C. 1344), and NEPA. Based on the available information, the Corps has determined that SCDOT's proposed extension of SC Highway 22 has the potential to significantly affect the quality of the human environment and therefore warrants the preparation of an EIS. Additional information about the proposed highway extension project and the NEPA process is available on the project website at: https://sc-22extension.com.

1. Description of Proposed Project. The South Carolina Highway 22 Extension Project (the proposed Project) includes the establishment of a new highway originating at US Highway 501, near Aynor, Horry County, South Carolina, and terminating at or near US Highway 17, near Surfside Beach, Horry County, South Carolina. According to SCDOT, the purpose and need for the proposed Project is to provide the southern region of Horry County with congestion relief, improved hurricane evacuation, and improved access to needed services east and west of the Waccamaw River.

2. Alternatives. A range of alternatives to the proposed action will be identified, and those found to be reasonable alternatives will be fully evaluated in the EIS, including: the no-action alternative, the applicant's proposed alternative, alternative site configurations, alternatives that may result in avoidance and minimization of impacts, and mitigation measures not in the proposed action. However, this list is not exclusive and additional alternatives may be considered for inclusion.

3. Scoping and Public Involvement Process. A scoping meeting will be conducted to gather information on the scope of the project and alternatives to be addressed in the EIS. A local public notice will be issued by the Charleston District, and a meeting announcement will be published in local newspapers once the date and location for the scoping meeting has been determined. Additional public and agency involvement will be sought through the implementation of a public involvement plan and through an agency coordination team.

4. Significant Issues. Issues associated with the proposed Project to be given detailed analysis in the DEIS are likely to include, but are not necessarily limited to, the potential impacts of the proposed highway on the existing and proposed transportation infrastructure, waters of the United States, water quality, wetlands and stream habitats, federal and state listed species of concern, threatened and endangered species, mitigation, noise, conservation, economics, cultural resources, aesthetics, general environmental concerns, historic properties, fish and wildlife values, flood hazards, floodplain values, land use, recreation, water supply and conservation, safety, and in general, the needs and welfare of the people.

5. Additional Review and Consultation. Additional review and consultation, which will be incorporated into the preparation of this DEIS, will include, but will not necessarily be limited to, section 14 of the RHA (33 U.S.C. 408), Essential Fish Habitat (EFH) consultation requirements of the Magnuson-Stevens Fishery Conservation and Management Act, the Endangered Species Act, the National Historic Preservation Act, and the South Carolina Coastal Zone Management Act.

6. Availability of the Environmental Impact Statement. The DEIS is anticipated to be available in early 2027. A Public Hearing will be conducted following the release of the DEIS.

Daniel H. Hibner,
Brigadier General, U.S. Army Corps of Engineers, South Atlantic Division.

[FR Doc. 2025-07071 Filed 4-23-25; 8:45 am]

BILLING CODE 3720-58-P